DEPARTMENT OF TRANSPORTATION

National Highway Traffic Safety Administration

[Docket No. NHTSA-2018-2127-0008]

Notice and Request for Comments

AGENCY: National Highway Traffic Safety Administration (NHTSA), Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on 03/19/2018. No comments were received.

DATES: Comments must be submitted on or before May 30, 2018.

ADDRESSES: Send comments regarding the burden estimate, including suggestions for reducing the burden, to the Office of Management and Budget, Attention: Desk Officer for the Office of the Secretary of Transportation, 725 17th Street NW, Washington, DC 20503.

FOR FURTHER INFORMATION CONTACT: Randolph R. Reid, Office of Defects Investigation (NEF-100) 202-366-4383, National Highway Traffic Safety Administration, W48-311, Department of Transportation, 1200 New Jersey Avenue SE, West Building W12-140, Washington, DC 20590, between 9 a.m. and 5 p.m. Monday through Friday, except Federal holidays.

SUPPLEMENTARY INFORMATION: Title: Consumer Complaints.

OMB Control Number: 2127-0008.

Type of Request: Renewal of current information collection.

Summary: The purpose of this collection provides a benefit to NHTSA's Office of Defects Investigation (ODI). Consumer vehicle safety complaints submitted to ODI are analyzed to determine if a defect trend exists that may require an investigation or the initiation of a recall. An ODI investigator may respond to a consumer submitting a complaint if they require more information. Complaints are collected daily through NHTSA's Vehicle Safety Hotline, www.nhtsa.gov website, or through correspondence. The complaints contain a consumer's allegation of a safety defect that they experienced with their vehicle or vehicle equipment, including injuries, crashes, property damage, and death. All complaints are converted to a Vehicle Owner Questionnaire (VOQ) format and reviewed by ODI investigation/engineer staff. ODI staff determines if the collection of complaints/VOQs describing an unreasonable safety risk in a specific make, model and model year of a vehicle or vehicle equipment warrants further action by the agency.

Abstract: Chapter 301 of title 49 of the United States Code, the Secretary of Transportation is authorized to require manufacturers of motor vehicles and motor vehicle equipment to conduct owner notification and remedy, i.e., a recall campaign, when it has been determined that a safety defect exists in the performance, construction, components, or materials in motor vehicles and motor vehicle equipment. To make this determination, the National Highway Traffic Safety Administration (NHTSA) solicits information from vehicle owners which is used to identify and evaluate possible safety-related defects and provide the necessary evidence of the existence of such a defect. Under the Authority of chapter 301 of Title 49 of the United States Code, the Secretary of Transportation is authorized to require manufacturers of motor vehicle and motor vehicle equipment which do not comply with the applicable motor vehicle safety standards or contains a defect that relates to motor vehicle safety to notify each owner that their vehicle contains a safety defect or noncompliance. Also, the manufacturer of each such motor vehicle item of replacement equipment presented for remedy pursuant to such notification shall cause such defect or noncompliance to be remedied without charge. In the case of a motor vehicle presented for remedy pursuant to such notification, the manufacturer shall cause the vehicle remedied by whichever of the following means he elects: (1) By repairing such vehicle; (2) by replacing such motor vehicle without charge; or (3) by refunding the purchase price less depreciation. To ensure these objectives are being met, NHTSA audits recalls conducted by manufacturer. These audits are performed on a randomly selected number of vehicle owners for verification and validation purposes.

Affected Public: Individuals and Households.

Estimated Number of Respondents: 70,000.

Frequency: Daily.

Number of Responses: 69,181.

Estimated Total Annual Burden Hours: 17,295 Hours.

Estimated Total Annual Burden Cost: $242,134.00.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; and 49 CFR 1:48.

Randolph R. Reid,
Chief, Correspondence Research Division, Office of Defects Investigation.

[FR Doc. 2018-09045 Filed 4-27-18; 8:45 am]

BILLING CODE 4910-59-P